DEPARTMENT OF THE INTERIOR

National Park Service

[NPS-WASO-NAGPRA-13393; PPWOCRADN0-PCU00RP14.R50000]

Notice of Inventory Completion: Columbia University, Department of Anthropology, New York, NY

AGENCY: National Park Service, Interior.

ACTION: Notice.

SUMMARY: The Columbia University, Department of Anthropology, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Columbia University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Columbia University at the address in this notice by August 29, 2013.

ADDRESSES: Dr. Nan Rothschild, Department of Anthropology, Columbia University, New York, NY 10027, telephone (212) 854-4977, email roth@columbia.edu.

SUPPLEMENTARY INFORMATION: Notice is here given in accordance with the Native American Graves Protection and Repatriation Act (NAGPRA), 25 U.S.C. 3003, of the completion of an inventory of human remains under the control of Columbia University. The human remains were removed from On-A-Slant Village (site 32MO26), Morton County, ND.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Columbia University, Department of Anthropology, professional staff in consultation with representatives of the Three Affiliated Tribes of Fort Berthold Reservation, North Dakota.

History and Description of the Remains

In 1938, human remains representing, at minimum, 10 individuals were removed from On-A-Slant Village (site 32MO26) in Morton County, ND. The excavation was led by William Duncan Strong and jointly sponsored by Columbia University and the State Historical Society of North Dakota. Strong brought the human remains to the American Museum of Natural History (AMNH), where they were placed on “permanent loan.” In January 2002, a detailed assessment of the human remains was made by researchers at Columbia University, and in March 2006, AMNH transferred the human remains to the Department of Anthropology at Columbia University. Seven partial or nearly intact skeletons, representing five adults and two children, and fragmentary remains of three other individuals were identified. These individual have been identified as Native American based on Strong's documentation and non-invasive assessment of cranial features. No known individuals were identified. No associated funerary objects are present.

The human remains were found on the site of a contact-period Mandan settlement called On-A-Slant Village (site 32MO26) on the right bank of the Heart River near its confluence with the Missouri River. Lewis and Clark recorded this site in 1804, as “the remains of a village formerly occupied by the Mandans,” which local people reported as having been abandoned around 1780, due to smallpox and warfare with the Sioux. Records indicate that the descendants of this settlement sometimes lived with members of the Hidatsa and Arikara. Today, the Arikara, Hidatsa, and Mandan people are represented by the Three Affiliated Tribes of Fort Berthold Reservation, North Dakota.

Determinations Made by Columbia University, Department of Anthropology

Officials of Columbia University, Department of Anthropology, have determined that:

• Pursuant to 25 U.S.C. 3001(9), the human remains described in this notice represent the physical remains of, at minimum, 10 individuals of Native American ancestry.

• Pursuant to 25 U.S.C. 3001(2), there is a relationship of shared group identity that can be reasonably traced between the Native American human remains and the Three Affiliated Tribes of Fort Berthold Reservation, North Dakota.

Additional Requestors and Disposition

Lineal descendants or representatives of any Indian tribe or Native Hawaiian organization not identified in this notice that wish to request transfer of control of these human remains should submit a written request with information in support of the request to Dr. Nan Rothschild, Department of Anthropology, Columbia University, 1200 Amsterdam Avenue, New York, NY 10027, telephone (212) 854-4977, email roth@columbia.edu, by August 29, 2013. After that date, if no additional requestors have come forward, transfer of control of the human remains to the Three Affiliated Tribes of Fort Berthold Reservation, North Dakota, may proceed.

The Columbia University, Department of Anthropology, is responsible for notifying the Three Affiliated Tribes of Fort Berthold Reservation, North Dakota, that this notice has been published.

Dated: June 25, 2013.
Sherry Hutt,
Manager, National NAGPRA Program.

[FR Doc. 2013-18274 Filed 7-29-13; 8:45 am]

BILLING CODE 4312-50-P